COMMODITY FUTURES TRADING COMMISSION

Notice of Meeting

Agency Holding the Meeting: Commodity Futures Trading Commission.

Time and Date: 11:30 a.m., Friday, March 10, 2000.

Place: 1155 21st St., NW, Washington, DC, 9th Floor Conference Room.

Status: Closed.

Matters to be Considered: Rule Enforcement Review.

Contact Person for More Information: Jean A. Webb, 202-418-5100.

Jean A. Webb,
Secretary of the Commission.

[FR Doc. 00-5590 Filed 3-3-00; 11:36 am]

BILLING CODE 6351-01-M